DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 23, 2008. Address written comments to Statutory Import Programs Staff, Room 2104, U.S. Department of Commerce, Washington, D.C. 20230. Applications may be examined between 8:30 A.M. and 5:00 P.M. at the U.S. Department of Commerce in Room 2104.

Docket Number: 08-007. Applicant: University of Southern California, University Park, Los Angeles, CA 90089-9045. Instrument: Transmission Electron Microscope, Model JEM-2100. Manufacturer: Jeol, Inc., Japan. Intended Use: The instrument is intended to be used to visualize tissues, cells and purified biological molecules at high magnification by transmission electron microscopy. The tissues, cells and molecules to be imaged will be evaluated for their morphological and structural features. Application accepted by Commissioner of Customs: March 11, 2008.

Dated: March 28, 2008.
Faye Robinson,
Director Statutory Import Programs Staff.

[FR Doc. E8-6947 Filed 4-2-08; 8:45 am]

BILLING CODE 3510-DS-S